FEDERAL COMMUNICATIONS COMMISSION

47 CFR Part 74

[FCC 14-150]

Commission Suspends Expiration Dates and Construction Deadlines for New Digital Low Power Television and TV Translator Stations

AGENCY: Federal Communications Commission.

ACTION: Final rule; suspension of expiration dates.

SUMMARY: The Commission announced that, effective immediately, it is suspending the expiration dates and construction deadlines for all outstanding construction permits for new digital low power television (LPTV) and TV translator stations. The Commission will decide on a new construction deadline for these permittees in the rulemaking proceeding in MB Docket No. 03-185. Until a decision is reached in the rulemaking decision and the Commission can determine the effect of the future incentive auction and repacking, permittees of new digital LPTV and TV translator stations may delay completing construction of their digital facilities.

DATES: The suspension became effective on October 10, 2014.

FOR FURTHER INFORMATION CONTACT: Shaun Maher, Video Division, Media Bureau, Federal Communications Commission, Shaun.Maher@fcc.gov, (202) 418-2324.

SUPPLEMENTARY INFORMATION: Effective immediately, the expiration dates and construction deadlines for all outstanding unexpired construction permits for new digital low power television (LPTV) and TV translator stations set forth in 47 CFR 74.788 are hereby suspended pending final action in the rulemaking proceeding in MB Docket No. 03-185 initiated today by the Commission. In a Third Notice of Proposed Rulemaking released October 10, 2014 in MB Docket No. 03-185 (FCC 14-151) the Commission recognized that the incentive auction and repacking process will impact existing analog LPTV and TV translator stations transitioning to digital and, because of this, it tentatively concluded to postpone the September 1, 2015 digital transition date. For similar reasons, the Commission also tentatively concluded to extend the construction deadlines of permits for new digital LPTV and TV translator stations and proposed that these permits be subject to whatever new transition date is adopted. This proposed action would also have the effect of treating these permittees similarly to the permittees of transitioning LPTV and TV translator stations.

Federal Communications Commission.
Marlene H. Dortch,
Secretary.

[FR Doc. 2014-26064 Filed 11-3-14; 8:45 am]

BILLING CODE 6712-01-P